DEPARTMENT OF COMMERCE

International Trade Administration

[A-533-810]

Stainless Steel Bar From India: Final Results of the Antidumping Duty Administrative Review

AGENCY: Import Administration, International Trade Administration, Department of Commerce.

SUMMARY: On March 6, 2012, the Department of Commerce (Department) published the preliminary results of the administrative review of the antidumping duty order on stainless steel bar from India. The review covers shipments of subject merchandise to the United States for the period February 1, 2010, through January 31, 2011, by Mukand Ltd. (Mukand) and Chandan Steel Limited (Chandan). The final results do not differ from the preliminary results. The final dumping margins are listed in the “Final Results of the Review” section below.

DATES: Effective Date: July 3, 2012.

FOR FURTHER INFORMATION CONTACT: Joseph Shuler or Yasmin Nair, AD/CVD Operations, Office 1, Import Administration, International Trade Administration, U.S. Department of Commerce, 14th Street and Constitution Avenue NW., Washington DC 20230; telephone (202) 482-1293, or (202) 482-3813, respectively.

SUPPLEMENTARY INFORMATION:

Background

On March 6, 2012, the Department published Stainless Steel Bar From India: Preliminary Results and Partial Rescission of the Antidumping Duty Administrative Review, 77 FR 13270 (March 6, 2012) (Preliminary Results).

We invited parties to comment on the Preliminary Results. On May 4, 2012, we received case briefs from Mukand and Chandan. On May 9, 2012, we received Petitioners' rebuttal brief.¹

¹ Carpenter Technology Corp.; Electralloy Co., (a division of G.O. Carlson, Inc.); Outokumpu Stainless Bar, Inc.; Universal Stainless & Alloy Products, Inc.; and Valbruna Slater Stainless, Inc. (collectively, Petitioners).

Scope of the Order

Imports covered by the order are shipments of stainless steel bar. Stainless steel bar means articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut-to-length flat-rolled products (i.e., cut-to-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes, and sections.

The stainless steel bar subject to this review is currently classifiable under subheadings 7222.10.00, 7222.11.00, 7222.19.00, 7222.20.00, 7222.30.00 of the Harmonized Tariff Schedule of the United States (HTSUS). Although the HTSUS subheadings are provided for convenience and customs purposes, our written description of the scope of the order is dispositive.

Analysis of Comments Received

All issues raised in the case briefs are addressed in the “Issues and Decision Memorandum for the 2010-2011 Administrative Review of Stainless Steel Bar from India” (Issues and Decision Memorandum), which is dated concurrently with and hereby adopted by this notice. A list of the issues which parties raised and to which we responded in the Issues and Decision Memorandum is attached to this notice as an Appendix. The Issues and Decision Memorandum is a public document which is on file electronically via Import Administration's Antidumping and Countervailing Duty Centralized Electronic Service System (IA ACCESS). Access to IA ACCESS is available in the Central Records Unit (CRU), Room 7046 of the main Department of Commerce building. In addition, a complete version of the Issues and Decision Memorandum can be accessed directly on the Internet at http://www.trade.gov/ia/. The signed Issues and Decision Memorandum and the electronic versions of the Issues and Decision Memorandum are identical in content.

Final Results of the Review

We determine that the following weighted-average dumping margins exist for Mukand and Chandan for the period February 1, 2010, through January 31, 2011.

Exporter/manufacturer | Margin (percent)
Mukand, Ltd | 30.92
Chandan Steel Limited | 30.92

Our normal practice for the rate applicable to non-reviewed respondents is to base this rate on the margins calculated for those companies that were selected for individual review, excluding de minimis margins or margins based entirely on adverse facts available.² In this review, we only have a single calculated margin for the company selected for individual review, namely, Mukand. Accordingly, we determine that the most appropriate margin available for us to use for the non-selected company in this review, Chandan, is the margin calculated for Mukand. Therefore, the margin we have assigned to Chandan for the final results of this administrative review is 30.92 percent. See Certain Lined Paper Products from India: Notice of Final Results of Antidumping Duty Administrative Review, 75 FR 7563 (February 22, 2010). This margin will apply to Chandan as both its assessment rate for this period of review (POR) and its cash deposit rate.

² See Issues and Decision Memorandum for a discussion of Chandan's rate.

Assessment Rates

The Department shall determine, and U.S. Customs and Border Protection (CBP) shall assess, antidumping duties on all appropriate entries, in accordance with 19 CFR 351.212(b)(1). The Department intends to issue appropriate assessment instructions for the companies subject to this review to CBP 15 days after the date of publication of these final results.

Mukand reported that it was the importer of record for all of its U.S. sales of subject merchandise. Pursuant to 19 CFR 351.212(b)(1), we have calculated importer-specific assessment rates based on the ratio of the total amount of antidumping duties calculated for the examined sales to the total entered value of those sales.

To determine whether the duty assessment rates were de minimis (i.e., less than 0.50 percent) in accordance with the requirement set forth in 19 CFR 351.106(c)(2), we calculated importer-specific ad valorem rates based on reported and estimated entered values (when no entered value was reported). Where the assessment rate is above de minimis, we will instruct CBP to assess duties on all entries of subject merchandise by that importer. Pursuant to 19 CFR 351.106(c)(2), we will instruct CBP to liquidate without regard to antidumping duties any entries for which the assessment rate is de minimis.

The Department clarified its “automatic assessment” regulation on May 6, 2003. See Antidumping and Countervailing Duty Proceedings: Assessment of Antidumping Duties, 68 FR 23954 (May 6, 2003) (Assessment Policy Notice). This clarification will apply to entries of subject merchandise during the POR produced by companies included in these final results of review for which the reviewed companies did not know their merchandise was destined for the United States. In such instances, we will instruct CBP to liquidate un-reviewed entries at the all-others rate established in the less-than-fair-value (LTFV) investigation if there is no rate for the intermediate company(ies) involved in the transaction. See Assessment Policy Notice.

Cash Deposit Requirements

The following deposit rates will be effective upon publication of the final results of this administrative review for all shipments of stainless steel bar from India entered, or withdrawn from warehouse, for consumption on or after the publication date, as provided by section 751(a)(2)(C) of the Act: (1) For companies covered by this review, the cash deposit rate will be the rates listed above; (2) for previously reviewed or investigated companies not listed above, the cash deposit rate will continue to be the company-specific rate published for the most recent final results in which that manufacturer or exporter participated; (3) if the exporter is not a firm covered in this review, a prior review, or the original LTFV investigation, but the producer is, the cash deposit rate will be the rate established for the most recent final results for the manufacturer of the merchandise; and (4) if neither the exporter nor the producer is a firm covered in this or any previous review conducted by the Department, the cash deposit rate will be 12.45 percent, the “all others” rate established in the LTFV investigation. See Notice of Final Determination of Sales at Less Than Fair Value: Stainless Steel Bar from India, 59 FR 66915 (December 28, 1994). These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

These final results of review are issued and published in accordance with sections 751(a)(1) and 777(i)(1) of the Act.

Dated: June 26, 2012.
Paul Piquado,
Assistant Secretary for Import Administration.

Appendix—Issues in Decision Memorandum

Comment 1: Whether to Use Zeroing Methodology in this Administrative Review

Comment 2: Whether the Department Should Have Selected Chandan as a Mandatory Respondent

[FR Doc. 2012-16329 Filed 7-2-12; 8:45 am]

BILLING CODE 3510-DS-P